FEDERAL MARITIME COMMISSION

Ocean Transportation Intermediary License; Applicant

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, D.C. 20573.

Non-Vessel Operating Common Carrier Ocean Transportation Intermediary Applicants

Logistics USA, Inc., 153-43 77th Road, Flushing, NY 11367, Officers: Siu Ming Chu, President, (Qualifying Individual), Shirley Sze Lea Tan-Chu, Vice President

Ever-Leading International Inc., 1320 N. San Gabriel Blvd., Rosemead, CA 91770, Officer: Hans Hsu, Vice President, (Qualifying Individual)

Keystone International Logistics, Inc., One Cross Island Plaza, Suite 229A, Rosedale, NY 11422, Officer: Kerry Loui, President, (Qualifying Individual)

Platinum International Logistics, Inc., 1481 Hamilton Pathway, Itasca, IL 60143, Officer: George Chu, Jr., President, (Qualifying Individual)

Non-Vessel Operating Common Carrier and Ocean Freight Forwarder Transportation Intermediary Applicants

Transitainer Inc., 1065 W. Thorndale Ave., Suite 106, Bensenville, IL 60106, Officers: Richard W. Shike, Vice President, (Qualifying Individual), Geoff Prudence, President

MTI Worldwide Logistics, 16000 Christensen Road, Suite 303, Seattle, WA 98168, Officers: Jeffrey Horst, Vice President, (Qualifying Individual), Karl O. Krug, President

JTL Freight Service Co., 1815 Rose Avenue, San Marine, CA 91108, Suan Hwa Lin (Carol Lin), Sole Proprietor

Kominis International, LLC d/b/a Capitol, Shipping and Logistics, 2447 Shenandoah Street, Vienna, VA 22180, Officers: Ntinos G. Karaiskos, General Manager, (Qualifying Individual), Stergiani N. Karaiskos, Secretary

Intertrans Express, Inc., 1322 N. San Gabriel Blvd., Rosemead, CA 91770, Officers: Charles Yu, Director, (Qualifying Individual), Chun Tsung Tao, President

Ocean Freight Forwarders—Ocean Transportation Intermediary Applicants

COR Logistics, Inc., 1420 Washington Blvd., Suite 203, Detroit, MI 48226, Officers: Francoise Cham, Vice President (Qualifying Individual), Walter Corley, President

International Transport Solutions, Inc., 145-69 226th Street, Jamaica, NY 11413, Officers: Eric P. Burrell, Superviser/Spec. Projects, (Qualifying Individual), William Gensburg, Joint Managing Dir.

Omni-Freight Int'l Inc., 1318 N. San Gabriel Blvd., Rosemead, CA 91770, Officers: Power Hsu, President, (Qualifying Individual), Wen-Yu Ting, Secretary

P. O. Box International, 7303 N.W. 56th Street, Miami, FL 33166, Officer: Oscar F. Gonzalez, President, (Qualifying Individual)

J. Powers International 2301 So. State, Suite 100-B, Little Rock, AR 72206, Officer: Christopher D. Joshua, Sr., President

Dated: October 27, 2000.
Bryant L. VanBrakle,
Secretary.

[FR Doc. 00-28048 Filed 10-31-00; 8:45 am]

BILLING CODE 6730-01-P